OFFICE OF NATIONAL DRUG CONTROL POLICY

Meeting of the Advisory Commission on Drug Free Communities

AGENCY: Office of National Drug Control Policy.

ACTION: Notice of Meeting.

SUMMARY: In accordance with the Drug Free Communities Act, a meeting of the Advisory Commission on Drug Free Communities will be held on December 7 and 8, 2006, at the Office of National Drug Control Policy in the 5th Floor Conference Room, 750 17th Street NW., Washington, DC. The meeting will commence at 8:30 a.m. on Thursday, December 7, 2006 and adjourn for the evening at 5:30 p.m. The meeting will reconvene at 8:30 a.m. on Friday, December 8, 2006 in the same location. The meeting will adjourn at 4 p.m. on Friday, December 8, 2006. The agenda includes: Remarks by ONDCP Director John P. Walters, remarks by ONDCP Deputy Director Mary Ann Solberg, remarks by the DFC Program's Administrator, a discussion of the program's evaluation, a review of new grant awards, and an update from the Substance Abuse and Mental Health Services Administration. There will be an opportunity for public comment from 9-9:30 on Friday December 8, 2006. Members of the public who wish to attend the meeting and/or make public comment should contact Carlos Dublin, at (202) 395-6762 to arrange building access.

FOR FURTHER INFORMATION CONTACT: Kenneth Shapiro, (202) 395-6762.

Dated: October 30, 2006.
Linda V. Priebe,
Assistant General Counsel.

[FR Doc. E6-18550 Filed 11-2-06; 8:45 am]

BILLING CODE 3180-02-P